DEPARTMENT OF STATE

[Public Notice 4293]

Bureau of Oceans and International Environmental and Scientific Affairs; Notice of Availability of a Draft National Plan of Action To Prevent, Deter, and Eliminate Illegal, Unregulated, and Unreported Fishing

SUMMARY: The Department of State announces the availability of a draft National Plan of Action (NPOA) developed pursuant to the International Plan of Action (IPOA) to Prevent, Deter, and Eliminate Illegal, Unregulated, and Unreported Fishing, adopted by the United Nations Food and Agriculture Organization (FAO) Committee on Fisheries (COFI) Ministerial Meeting in February 2001. Members of the public are encouraged to provide comments on the draft NPOA.

DATES: Comments must be received no later than May 31, 2003.

ADDRESSES: Written comments and requests for copies of the draft NPOA should be submitted to Deirdre Warner-Kramer, Office of Marine Conservation (OES/OMC), Bureau of Oceans, and International Environmental and Scientific Affairs, Department of State, Washington, DC 20520-7818, or may be sent via facsimile (fax) to 202-736-7350. An electronic version of the draft is available at http://www.state.gov/g/oes/ocns/c7983.htm Comments will not be accepted if submitted via e-mail.

FOR FURTHER INFORMATION CONTACT: Deirdre Warner-Kramer at 202-647-2335, fax 202-736-7350.

SUPPLEMENTARY INFORMATION: The United States and other members of the international community have experienced a growing incidence of fishing activity that does not respect applicable laws and regulations, including fishing rules adopted at the national and international levels. Examples of such activity include reflagging of fishing vessels to evade controls, fishing in areas of national jurisdiction without authorization by the coastal State, and failure to report (or misreporting) catches. Such irresponsible fishing activity directly undermines efforts to manage fisheries properly and impedes progress toward the goal of sustainable fisheries.

Under the auspices of the Food and Agriculture Organization of the United Nations (FAO), a concerted effort was undertaken to develop a comprehensive “toolbox” of measures that States could take, both individually and collectively, to address the problems of IUU fishing. This effort culminated with the adoption in 2001 of the FAO International Plan of Action to Prevent, Deter and Eliminate Illegal, Unreported and Unregulated Fishing (IPOA).

As its title suggests, the objective of the IPOA is to prevent, deter and eliminate IUU fishing. The principles to guide the pursuit of this objective include: (1) Broad participation and coordination among States, as well as representatives from industry, fishing communities and non-governmental organizations; (2) the phasing-in of action to implement the IPOA on the earliest possible timetable; (3) the use of a comprehensive and integrated approach, so as to address all impacts of IUU fishing; (4) the maintenance of consistency with the conservation and long-term sustainable use of fish stocks and the protection of the environment; (5) transparency; and (6) non-discrimination in form or in fact against any State or its fishing vessels.

The draft U.S. National Plan of Action is organized along the same lines as the IPOA, including sections on All State Responsibilities, Flag State Responsibilities, Coastal State Measures, Port State Measures, Internationally Agreed Market State Measures, Measures to be Implemented Through Regional Fisheries Management Organizations and Special Requirements of Developing States. As envisioned in the IPOA, the United States intends to review the implementation of this National Plan of Action at least every four years after its adoption.

Dated: February 27, 2003.
Margaret F. Hayes,
Acting Deputy Assistant Secretary for Oceans and Fisheries, Department of State.

[FR Doc. 03-5287 Filed 3-5-03; 8:45 am]

BILLING CODE 4710-09-P